DEPARTMENT OF VETERANS AFFAIRS

[OMB Control No. 2900-0003]

Agency Information Collection Activity Under OMB Review: Proposed Information Collection (Application for Burial Benefits)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0003.”

SUPPLEMENTARY INFORMATION:

Title: Application for Burial Benefits (Under 38 U.S.C. Chapter 23), VA Form 21P-530EZ.

OMB Control Number: 2900-0003.

Type of Review: Reinstatement of a currently approved collection.

Abstract: The Department of Veterans Affairs (VA), through its Veterans Benefits Administration (VBA), administers an integrated program of benefits and services established by law for veterans, service personnel, and their dependents and/or beneficiaries. Information is requested by this form under the authority of 38 U.S.C. Chapter 23 “Burial Benefits,” including 38 U.S.C. 2302, 2303, 2304, 2307, and 2308. VA uses the information provided on the form to evaluate the respondent's eligibility for monetary burial benefits, including the burial allowance, plot or internment allowance, and transportation reimbursement.

An agency may not conduct or sponsor, and a person is not required to respond to a collection of information unless it displays a currently valid OMB control number. The Federal Register Notice with a 60-day comment period soliciting comments on this collection of information was published at 85 FR 15039 on Monday, March 16, 2020. Reinstatement with change is needed because the program office was in discussions on use of form and/or change in format and no decision was made; however, decision was made to continue usage with changes.

Affected Public: Individuals or households.

Estimated Annual Burden: 1,037.50 hours.

Estimated Average Burden per Respondent: 30 minutes (0.50 hours).

Frequency of Response: One time.

Estimated Number of Respondents: 2,075. *

*This total was derived from a query of our claims database and represents the actual number of each form received in on an average year.

Authority: 38 U.S.C. 2302, 2303, 2304, 2307, and 2308.

By direction of the Secretary.
Danny S. Green,
VA PRA Clearance Officer, Office of Quality, Performance and Risk, Department of Veterans Affairs.

[FR Doc. 2020-11305 Filed 5-26-20; 8:45 am]

BILLING CODE 8320-01-P